DEPARTMENT OF THE INTERIOR

Fish and Wildlife Service

[FWS-R9-IA-2009-N259; 96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species and/or marine mammals. Both the Endangered Species Act and the Marine Mammal Protection Act require that we invite public comment on these permit applications.

DATES: Written data, comments or requests must be received by December 30, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703-358-2281.

FOR FURTHER INFORMATION CONTACT: Division of Management Authority, telephone 703-358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Lemur Conservation Foundation, Myakka City, FL, PRT-231674

The applicant requests a permit to import 6 captive-bred red collared lemurs (Eulemur collaris) from the Hamerton Zoo Park, England, for the purpose of enhancement of the survival of the species.

Applicant: University of New Mexico, Museum of Southwestern Biology, Albuquerque, NM, PRT-084874

The applicant requests the renewal of their permit for the export/re-export and re-import of non-living museum specimens and non-living herbarium specimens of endangered and threatened animals and plants species that were previously accessioned into the applicant's collection for scientific research. This notification covers activities to be conducted by the applicant over a 5-year period.

Applicant: University of California, Los Angeles/Center for Tropical Research, Los Angeles, CA, PRT-215520

The applicant requests a permit to import biological samples from Baird's tapir (Tapirus bairdii) from Centro de Investigacions en Ecosistemas de la Universidad Nacional Autonoma de Mexico, for the purpose of enhancement of the species through scientific research. This notification covers activities to be conducted by the applicant over a 5-year period.

Applicant: National Zoological Park, Smithsonian Institution, Washington, D.C., PRT-231151

The applicant requests a permit to import one male and one female captive-born clouded leopards (Neofelis nebulosa) from Howletts Wild Animal Park, United Kingdom, for the purpose of enhancement of the survival of the species.

Applicant: William J. Butler, Juntura, OR, PRT-232558

The applicant requests a permit to import the sport-hunted trophy of one male bontebok (Damaliscus pygargus pygargus) culled from a captive herd maintained under the management program of the Republic of South Africa, for the purpose of enhancement of the survival of the species.

Marine Mammals

The public is invited to comment on the following applications for a permit to conduct certain activities with marine mammals. The applications were submitted to satisfy requirements of the Marine Mammal Protection Act of 1972, as amended (16 U.S.C. 1361 et seq.), and the regulations governing marine mammals (50 CFR Part 18). Submit your written data, comments, or requests for copies of the complete applications or requests for a public hearing on these applications to the address shown in ADDRESSES. If you request a hearing, give specific reasons why a hearing would be appropriate. The holding of such a hearing is at the discretion of the Director.

Applicant: Dr. Beth Shapiro, Pennsylvania State University, University Park, PA, PRT-220509

The applicant requests a permit to import blood and tissue samples from polar bear (Ursus maritimus) each of the 19 subpopulations for scientific research purposes. This notification covers activities to be conducted by the applicant over a 5-year period.

Applicant: John Downer Productions LTD, Bristol, United Kingdom, PRT-229154

The applicant requests a permit to photograph northern sea otters (Enhydra lutris kenyoni) in Alaska, from boats and using aerial devices, for commercial and educational purposes. This notification covers activities to be conducted by the applicant over a 1-year period.

Applicant: Pontecorvo Productions LLC, Seattle, WA, PRT-230255

The applicant requests a permit to photograph polar bear (Ursus maritimus) dens in Alaska for commercial and educational purposes. This notification covers activities to be conducted by the applicant over a 1-year period.

Concurrent with publishing this notice in the Federal Register, we are forwarding copies of the above applications to the Marine Mammal Commission and the Committee of Scientific Advisors for their review

Dated: November 20, 2009.
Lisa J. Lierheimer,
Senior Permit Biologist, Branch of Permits, Division of Management Authority.

[FR Doc. E9-28624 Filed 11-27-09; 8:45 am]

BILLING CODE 4310-55-P